DEPARTMENT OF HEALTH AND HUMAN SERVICES

Centers for Disease Control and Prevention

[60Day-24-24GU; Docket No. CDC-2024-0053]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Assessing Adoption and Implementation of the National Institute of Occupational Safety and Health's (NIOSH) Outputs. NIOSH proposes using surveys, interviews, and focus groups to improve awareness, understanding, and assess the impact of adoption and implementation practices by users of NIOSH research efforts and products.

DATES: CDC must receive written comments on or before August 27, 2024.

ADDRESSES: You may submit comments, identified by Docket No. CDC-2024-0053 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Adoption and Implementation of the National Institute of Occupational Safety and Health's (NIOSH) Outputs—New—National Institute of Occupational Safety and Health's (NIOSH), Centers for Disease Control and Prevention (CDC).

Background and Brief Description

The Centers for Disease Control and Prevention (CDC), National Institute for Occupational Safety and Health (NIOSH), is requesting approval of a new Generic information collection for a period of three years for the project titled, Assessing Adoption and Implementation of the National Institute of Occupational Safety and Health's (NIOSH) Outputs.

With the continuation of the Government Performance and Results Act, and the more recent passage of the Foundations of Evidence-Based Policy Making Act, there is an increased need for federal agencies to measure and demonstrate their impact. However, measuring impact is challenging, especially for organizations that have a science-driven mission because of the time it takes to move from basic to applied research. Demonstrating attribution (cause and effect relationships) is particularly challenging for research organizations. NIOSH research is often designed to collect implementation and adoption data through document reviews of NIOSH records, including grantee final reports, and through interviews with NIOSH researchers (federal employees). While commonly recognized metrics, these data sources are not comprehensive, representative, or informative of the adoption and implementation of NIOSH products and efforts. Further, the design and execution of research projects has hindered research and program leaders prioritizing information collections to understand and assess the adoption and implementation of research efforts and products.

The proposed Generic information collection package would allow researchers to expeditiously pursue efforts to provide NIOSH with critical information to inform mission-driven needs. Additionally, the proposed efforts go beyond simply measuring customer satisfaction and seek to advance NIOSH's burden, need, and impact framework for future research while also endeavoring to execute the Office of Management and Budget's guidance regarding the Foundations of Evidence-Based Policymaking Act. Respondents are expected to consist of users and potential users of NIOSH products including subject matter expects, former NIOSH funding recipients, and intermediary and end users. CDC requests OMB approval for an estimated 6,069 annual burden hours. There is no cost to respondents other than their time to participate.

Estimated Annualized Burden Hours
Type of respondent | Type of data collection instrument | Number of respondents | Number of responses per respondent | Average burden per response (in hours) | Total burden hours
Subject matter experts | Survey instrument (pre and post) | 5,000 | 1 | 20/60 | 1,667
| Informed consent form | 250 | 1 | 5/60 | 21
| Interview or focus group guide | 250 | 1 | 1 | 250
Former NIOSH funding recipients | Survey instrument (pre and post) | 200 | 1 | 20/60 | 67
| Informed consent form | 25 | 1 | 5/60 | 2
| Interview or focus group guide | 25 | 1 | 1 | 25
Intermediary or end users (e.g., employers, workers, manufactures, labor/professional associations, policymakers) | Survey instrument (pre and post) Informed consent form | 10,000 650 | 1 1 | 20/60 5/60 | 3,333 54
| Interview or focus group guide | 650 | 1 | 1 | 650
Total |  |  |  |  | 6,069

Jeffrey M. Zirger,
Lead, Information Collection Review Office, Office of Public Health Ethics and Regulations, Office of Science, Centers for Disease Control and Prevention.

[FR Doc. 2024-14309 Filed 6-27-24; 8:45 am]

BILLING CODE 4163-18-P